SMALL BUSINESS ADMINISTRATION

Reporting and Recordkeeping Requirements Under OMB Review

AGENCY: Small Business Administration.

ACTION: 30-Day notice.

SUMMARY: The Small Business Administration (SBA) is publishing this notice to comply with requirements of the Paperwork Reduction Act (PRA) requires agencies to submit proposed reporting and recordkeeping requirements to OMB for review and approval, and to publish a notice in the Federal Register notifying the public that the agency has made such a submission. This notice also allows an additional 30 days for public comments.

DATES: Submit comments on or before March 4, 2020.

ADDRESSES: Comments should refer to the information collection by nameand/or OMB Control Number and should be sent to: Agency Clearance Officer, Curtis Rich, Small Business Administration, 409 3rd Street SW, 5th Floor, Washington, DC 20416; and SBA Desk Officer, Office of Information and Regulatory Affairs, Office of Management and Budget, New Executive Office Building, Washington, DC 20503.

FOR FURTHER INFORMATION CONTACT: Curtis Rich, Agency Clearance Officer, (202) 205-7030, curtis.rich@sba.gov.

Copies: A copy of the Form OMB 83-1, supporting statement, and other documents submitted to OMB for review may be obtained from the Agency Clearance Officer.

SUPPLEMENTARY INFORMATION: The information on SBA Form 480, Size Status Declaration, is collected from small business investment companies (SBICs) and the small businesses that receive assistance from SBICs. SBA uses the information to determine whether SBIC assistance is provided only to small business concerns as defined in the Small Business Investment Act of 1958 and in SBA size regulations. Without this information, businesses that exceed SBA's size standards could benefit from program resources intended only for small businesses.

Solicitation of Public Comments

Title: Size Status Declaration.

Description of Respondents: Small Business Investment.

Form Number: 480.

Estimated Annual Responses: 1,350.

Estimated Annual Hour Burden: 225.

Curtis Rich,
Management Analyst.

[FR Doc. 2020-01929 Filed 1-31-20; 8:45 am]

BILLING CODE 8026-03-P